DEPARTMENT OF ENERGY

Environmental Management Site-Specific Advisory Board, Oak Ridge Reservation

AGENCY: Department of Energy.

ACTION: Notice of open meeting.

SUMMARY: This notice announces a meeting of the Environmental Management Site-Specific Advisory Board (EM SSAB), Oak Ridge Reservation. The Federal Advisory Committee Act requires that public notice of this meeting be announced in the Federal Register.

DATES: Saturday, August 19, 2017, 9:00 a.m. to 2:30 p.m.

ADDRESSES: Tremont Lodge, 7726 East Lamar Alexander Parkway, Townsend, Tennessee 37882.

FOR FURTHER INFORMATION CONTACT: Melyssa P. Noe, Alternate Deputy Designated Federal Officer, U.S. Department of Energy, Oak Ridge Office of Environmental Management, P.O. Box 2001, EM-942, Oak Ridge, TN 37831. Phone (865) 241-3315; Fax (865) 241-6932; Email: Melyssa.Noe@orem.doe.gov. Or visit the Web site at https://energy.gov/orem/services/community-engagement/oak-ridge-site-specific-advisory-board.

SUPPLEMENTARY INFORMATION:

Purpose of the Board: The purpose of the Board is to make recommendations to DOE-EM and site management in the areas of environmental restoration, waste management, and related activities.

Tentative Agenda:

• Welcome, Opening Remarks and Introductions

• Comments from the Deputy Designated Federal Officer (DDFO)

• Board Mission and Accomplishments

• Board Operations

• Results of Member Survey

• Break

• Work Plan Topics

• Process

• Presentations by DOE, Environmental Protection Agency and Tennessee Department of Environment and Conservation Liaisons

• Suggestions from Board Members

• Plan for Issue Group Sign-up

• Summary of Morning Discussions

• Board Business

• Presentation of Candidates for Fiscal Year 2018 Officers

• Recommendations on the Fiscal Year 2019 Oak Ridge EM Budget Priorities

• Public Comment Period

• Remarks by Board Chair and Alternate DDFO

• Lunch Break

• Follow-on Discussion

• Adjourn

Public Participation: The EM SSAB, Oak Ridge, welcomes the attendance of the public at its advisory committee meetings and will make every effort to accommodate persons with physical disabilities or special needs. If you require special accommodations due to a disability, please contact Melyssa P. Noe at least seven days in advance of the meeting at the phone number listed above. Written statements may be filed with the Board either before or after the meeting. Individuals who wish to make oral statements pertaining to the agenda item should contact Melyssa P. Noe at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Melyssa P. Noe at the address and phone number listed above. Minutes will also be available at the following Web site: https://energy.gov/orem/listings/oak-ridge-site-specific-advisory-board-meetings.

Issued at Washington, DC, on July 27, 2017.
LaTanya R. Butler,
Deputy Committee Management Officer.

[FR Doc. 2017-16236 Filed 8-1-17; 8:45 am]

BILLING CODE 6450-01-P